DEPARTMENT OF HOUSING AND URBAN DEVELOPMENT

[Docket No. FR-4653-N-08]

Notice of Proposed Information Collection for Public Comment: Survey of Market Absorption

AGENCY: Office of the Assistant Secretary for Policy Development and Research, HUD.

ACTION: Notice.

SUMMARY: The proposed information collection requirement described below will be submitted to the Office of Management and Budget (OMB) for review as required by the Paperwork Reduction Act of 1995. The Department is soliciting public comments on the subject proposal.

DATES: Comments Due Date: August 27, 2001.

ADDRESSES: Interested persons are invited to submit comments regarding this proposal. Comments should refer to the proposal by name and/or OMB Control Number and should be sent to: Reports Liaison Officer, Officer of Policy Development and Research, Department of Housing and Urban Development, 451 7th Street SW, Room 8226, Washington, DC 20410.

FOR FURTHER INFORMATION CONTACT: Ronald J. Sepanik (202) 708-1060 x5887 (this is not toll-free) for copies of the proposed forms and other relevant documents.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: The Survey of Market Absorption (SOMA).

OMB Number: 2528-0012 (expires 07/31/2002).

Description of the need for the information and proposed use: The Survey of Market Absorption (SOMA) provides the data necessary to measure the rate at which new rental apartments and new condominium apartments are absorbed; that is, taken off the market, usually by being rented or sold, over the course of the first twelve months following completion of a building.

The data are collected at quarterly intervals until the twelve months conclude, or until the units in a building are completely absorbed. The survey also provides estimates of certain characteristics, i.e., asking rent/price, number of units, and number of bedrooms.

The survey provides a basis for analyzing the degree to which new apartment construction is meeting the present and future needs of the public. Additionally, beginning with new construction in 2002, the survey will attempt to ascertain the number and degree of services provided by Assisted Living type units.

Members of affected public: Rental Agents/Builders.

Estimation of the total number of hours needed to prepare the information collection including number of respondents, frequency of response, and hours of response: 4,000 hours, number of respondents is 12,000 taking an estimate of 20 minutes; frequency of response is four times (maximum). All information will be collected in person or via telephone.

Status of the proposed information collection: Pending OMB approval.

Authority: Title 12, U.S.C. section 1701z.

Dated: June 18, 2001.
Lawrence L. Thompson,
General Deputy Assistant, Secretary for Policy Development and Research.

[FR Doc. 01-15923 Filed 6-25-01; 8:45 am]

BILLING CODE 4210-62-M